DEPARTMENT OF ENERGY

Federal Energy Regulatory Commission

[Project No. 12514-074]

Northern Indiana Public Service Company; Notice of Availability of Final Environmental Assessment

In accordance with the National Environmental Policy Act of 1969 and the Federal Energy Regulatory Commission's (Commission or FERC's) regulations, 18 Code of Federal Regulations (CFR) Part 380, the Office of Energy Projects has reviewed Northern Indiana Public Service Company's application for amendment of the license for the Norway-Oakdale Hydroelectric Project (FERC Project No. 12514-074), on the Tippecanoe River near the city of Monticello in Carroll and White Counties, Indiana, and prepared a final environmental assessment (EA) for the project. The project does not occupy any federal lands.

The final EA contains staff's analysis of the potential environmental effects of implementing the proposed modified definition of abnormal flow conditions that would be included in a revised article 403, which defines the operation of the project. Staff concludes that authorizing the amendment, with staff's recommended modification to the definition of abnormal river conditions, would not constitute a major federal action that would significantly affect the quality of the human environment.

A copy of the final EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

For further information, contact Mark Pawlowski at 202-502-6052.

Dated: November 10, 2016.
Kimberly D. Bose,
Secretary.

[FR Doc. 2016-27807 Filed 11-17-16; 8:45 am]

BILLING CODE 6717-01-P